DEPARTMENT OF JUSTICE

[OMB Number 1105-0110]

Agency Information Collection Activities; Proposed eCollection eComments Requested; Reinstatement With Change of a Previously Approved Collection; Vulnerability Assessment Request

AGENCY: U.S. Marshals Service, Department of Justice.

ACTION: 30-Day notice.

SUMMARY: The U.S. Marshals Service, Department of Justice (DOJ), will be submitting the following information collection request to the Office of Management and Budget (OMB) for review and approval in accordance with the Paperwork Reduction Act of 1995.

DATES: Comments are encouraged and will be accepted for 30 days until October 31, 2024.

FOR FURTHER INFORMATION CONTACT: If you have additional comments especially on the estimated public burden or associated response time, suggestions, or need a copy of the proposed information collection instrument with instructions or additional information, please contact Assistant Chief Karl Slazer/Management Support Division, U.S. Marshals Service Headquarters, 1215 S Clark St., Ste. 10017, Arlington, VA 22202-4387, by telephone at 202-360-7359 or by email at karl.slazer@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This form should be completed by state, local and tribal government agencies to request a vulnerability assessment of a government facility by the United States Marshals Service.

Overview of This Information Collection

1. Type of Information Collection: Reinstatement with change of a previously approved collection.

2. The Title of the Form/Collection: Vulnerability Assessment Request.

3. The agency form number, if any, and the applicable component of the Department sponsoring the collection: USM-649.

4. Affected public who will be asked or required to respond, as well as the obligation to respond:

• Affected Public: State, local, and tribal organizations.

• The obligation to respond is voluntary.

5. An estimate of the total number of respondents and the amount of time estimated for an average respondent to respond: An estimated 28 respondents will utilize the form, and it will take each respondent approximately 30 minutes to complete the form.

6. An estimate of the total annual burden (in hours) associated with the collection: The estimated annual public burden associated with this collection is 14 hours, which is equal to 28 (total # of annual responses) * 0.5 (30 mins).

7. An estimate of the total annual cost burden associated with the collection, if applicable:

Total Burden Hours
Activity | Number of respondents | Frequency (annually) | Total annual responses | Time per response (min.) | Total annual burden (hours)
Ex: Survey (individuals or households) | 28 | 1 | 28 | 30 | 14
Unduplicated Totals | 28 |  | 28 |  | 14

If additional information is required contact: Darwin Arceo, Department Clearance Officer, United States Department of Justice, Justice Management Division, Policy and Planning Staff, Two Constitution Square, 145 N Street NE, 4W-218, Washington, DC.

Dated: September 26, 2024.
Darwin Arceo,
Department Clearance Officer for PRA, U.S. Department of Justice.

[FR Doc. 2024-22534 Filed 9-30-24; 8:45 am]

BILLING CODE 4410-04-P